DEPARTMENT OF LABOR

Employment and Training Administration

Solicitation of Comments on Reauthorization of the Workforce Investment Act (WIA) and Linkages With the Temporary Assistance for Needy Families (TANF) Program

AGENCY: Employment and Training Administration (ETA), Labor.

ACTION: Solicitation of comments.

SUMMARY: Title I of the Workforce Investment Act of 1998 (WIA) established a new delivery mechanism for training and employment services, known as the One-Stop service delivery system. The Personal Responsibility and Work Opportunity Reconciliation Act of 1996 (PRWORA) reformed the welfare system by replacing the Aid to Families with Dependent Children Program with a new welfare block grant program, known as the Temporary Assistance for Needy Families program, or TANF. TANF provides states with funding for the provision of welfare services. The Congress is scheduled to take up the reauthorization of TANF in 2002 and WIA in 2003. The purpose of this notice is to invite public comment on two major issues: (1) What changes the Administration should propose to Titles I, III and V of WIA; and (2) how linkages between Title I of WIA and TANF can be improved.

DATES: Submit comments on or before June 30, 2002. We encourage comments related to linkages between Title I of WIA and TANF to be submitted as soon as possible.

ADDRESSES: Submit comments through the mail to: WIA/TANF Reauthorization, Attention: Maria Kniesler Flynn, Employment and Training Administration, Room S-4231, 200 Constitution Avenue, NW., Washington, DC 20210. Fax copies may be sent to: 202-693-3015. If you wish to comment electronically, go to the Employment and Training Administration's reauthorization website at http://usworkforce.org/reauthorization and follow the instructions or you may e-mail comments to reauthorization@doleta.gov. Please be advised that U.S. mail delivery in the Washington, DC area has been erratic due to concerns involving anthrax contamination. Commenters should take this into consideration when submitting comments near the deadline.

FOR FURTHER INFORMATION CONTACT: Maria Kniesler Flynn, Division Chief, Division of One-Stop Operations, Employment and Training Administration, 200 Constitution Avenue, Room S-4231, Washington, DC, 20210. Ms. Flynn's telephone number is (202) 693-3045.

SUPPLEMENTARY INFORMATION:

Legislative Summary

The Workforce Investment Act [Pub. L. 105-220] was signed into law on August 7, 1998. It marked the first major job training reform in over 15 years and replaced the Job Training Partnership Act. Title I of the Act is designed to provide workforce investment activities through statewide and local One-Stop systems that increase the employment, retention and earnings of participants, and increase occupational skill attainment by participants. These One-Stop systems provide the information, advice, job search assistance and training that are necessary to get and keep good jobs to unemployed or underemployed individuals, thereby providing employers with skilled workers.

Title I of the Personal Responsibility and Work Opportunity Reconciliation Act of 1996, [Pub.L. 104-193], was signed into law on August 22, 1996, and established the Temporary Assistance for Needy Family (TANF) program. TANF is a block grant that has facilitated reforms in the nation's welfare system. Its focus is moving recipients into work and turning welfare into a program of temporary assistance, preventing and reducing the incidence of out-of-wedlock births, and promoting stable two-parent families.

The Balanced Budget Act of 1997 amended TANF by adding $3 billion for a temporary Welfare-to-Work (WtW) program administered by the Department of Labor, which was targeted to help welfare recipients and noncustodial parents with the greatest number of barriers to employment. WtW formula grants were awarded to states which were required to pass 85% of their funds down to local Private Industry Councils, most of which became Workforce Investment Boards with the implementation of the WIA. WtW funding authority ended in FY 1998, although most grants continue into 2004.

Public Input

The Department of Labor's Employment and Training Administration (ETA) is seeking public input in anticipation of the reauthorization of WIA and TANF. Relevant issue areas include:

• How to enhance use of the One-Stop system under WIA to deliver services for the purpose of improving employment and earning outcomes for TANF recipients;

• How better to meet the needs of business in the workforce investment system and improve business participation in the system;

• How to balance state and local needs in the governance of the workforce investment system;

• How to increase state flexibility in meeting local labor market needs while keeping the focus on connecting people with productive employment;

• How the Administration's Unemployment Insurance/Employment Service reform proposal will assist States to improve and expand their One-Stop systems;

• How the operation of the One-Stop Career Centers can be improved; and

• How individuals can receive improved opportunities for training.

Input may be provided: (1) By submitting comments in response to this notice by mail or fax, (2) via e-mail by posting them on the reauthorization website at http://usworkforce.org/reauthorization, or (3) by making comments verbally at one of several public forums. Such forums include those to be held in Washington, D.C. in connection with the National Association of State Workforce Agencies (NASWA), the National Association of Counties (NACo), and the National Association of Workforce Boards (NAWB). Each ETA regional office will also be asked to host a forum. We encourage the active participation of One-Stop partner programs, such as vocational rehabilitation, adult education, TANF, and others, in these outreach efforts.

The website will provide up-to-date information to the public and inform the workforce system of the latest developments in the reauthorization efforts. The site will be linked to http://www.doleta.gov and http://www.usworkforce.org and will include a mechanism for submitting comments, a calendar of events, relevant documents and linkages to other federal partner agencies including the Department of Health and Human Services' (HHS) site established to receive comments on the TANF reauthorization process.

The forums with national organizations will include presentations by designated ETA officials and will be followed by an interactive session to collect feedback from attendees. The regional forums will also include an interactive session to collect information and may also include a focus on specific aspects of the WIA and/or TANF system. Information on dates and locations will be posted on the website. The Department of Labor anticipates giving feedback to stakeholders in a white paper to be published in the Federal Register. An additional opportunity for public comment will be provided after the white paper is published.

Signed at Washington, DC, this 22 day of February, 2002.
Emily Stover DeRocco,
Assistant Secretary for Employment and Training.

[FR Doc. 02-4724 Filed 2-27-02; 8:45 am]

BILLING CODE 4510-30-P